DEPARTMENT OF JUSTICE

Notice of Lodging of Proposed Consent Decree Under The Clean Air Act, The Comprehensive Environmental Response, Compensation, and Liability Act, and The Emergency Planning and Community Right-To-Know Act

On October 24, 2018, the Department of Justice and the State of Mississippi filed a complaint and lodged a proposed Consent Decree with the United States District Court for the Northern District of California (“Court”) in the matter of United States of America and the State of Mississippi v. Chevron U.S.A. Inc., Civil Action No. 4:18-cv-06506 (N.D. Cal.).

The proposed Consent Decree resolves certain claims brought under Section 112(r)(7) of the Clean Air Act (“CAA”), 42 U.S.C. 7412(r)(7), at the four petroleum refineries owned and operated by Chevron U.S.A. Inc. (“Chevron”), which are located in Richmond, California; El Segundo, California; Pascagoula, Mississippi; and Salt Lake City, Utah; as well as a fifth petroleum refinery formerly owned and operated by Chevron, located in Kapolei, Hawaii. The State of Mississippi is also resolving its related state law claims at the refinery located in Pascagoula, Mississippi. The proposed Consent Decree also resolves certain claims brought under Section 112(r)(1) of the Clean Air Act, 42 U.S.C. 7412(r)(1), at the refineries located in Richmond, California, and Pascagoula, Mississippi; under Section 103 of the Comprehensive Environmental Response, Compensation, and Liability Act (“CERCLA”), 42 U.S.C. 9603, at the refinery located in Richmond, California; and under Section 304 of the Emergency Planning and Community Right-to-Know Act (“EPCRA”), 42 U.S.C. 11004, at the refinery located in Richmond, California; and certain findings of violation previously issued by the U.S. Environmental Protection Agency (“EPA”) in Richmond, California. The claims alleged in the complaint and resolved in the proposed Consent Decree concern Chevron's prevention and mitigation of accidental chemical releases, including actual releases that occurred in Richmond, California in 2012, in El Segundo, California in 2013, and in Pascagoula, Mississippi in 2013.

The Consent Decree requires Chevron to perform safety improvements to all its U.S. petroleum refineries. These improvements include the replacement of vulnerable pipes, the implementation of “integrity operating window” parameters and alarms, the conducting of additional corrosion inspections, the implementation of additional employee training, and the centralization of safety authority within the corporation. The Consent Decree also requires Chevron to pay a civil penalty of $2,950,000, of which $2,492,750 will be paid to the United States and $457,250 to the State of Mississippi; and requires Chevron to perform Supplemental Environmental Projects valued at $10,000,000, consisting of the provision of emergency response equipment to local jurisdictions surrounding the five refineries at issue in the complaint.

The publication of this notice opens a period for public comment on the Consent Decree. Comments should be addressed to the Assistant Attorney General, Environment and Natural Resources Division, and should refer to United States of America and the State of Mississippi v. Chevron U.S.A. Inc., D.J. Ref. No. 90-5-2-1-11576. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.usdoj.gov/enrd/consent-decrees. We will provide a paper copy of the Consent Decree upon written request and payment of reproduction costs. Please mail your request and payment to: Consent Decree Library, U.S. DOJ—ENRD, P.O. Box 7611, Washington, DC 20044-7611.

Please enclose a check or money order for $25.00 (25 cents per page reproduction cost) payable to the United States Treasury.

Jeffrey Sands,
Assistant Section Chief, Environmental Enforcement Section, Environment and Natural Resources Division.

[FR Doc. 2018-23735 Filed 10-30-18; 8:45 am]

BILLING CODE 4410-15-P